DEPARTMENT OF DEFENSE

GENERAL SERVICES ADMINISTRATION

NATIONAL AERONAUTICS AND SPACE ADMINISTRATION

[OMB Control No. 9000-0001; Docket No. 2014-0055; Sequence No. 18]

Submission for OMB Review; Affidavit of Individual Surety, Standard Form 28

AGENCY: Department of Defense (DOD), General Services Administration (GSA), and National Aeronautics and Space Administration (NASA).

ACTION: Notice of request for public comments regarding an extension to an existing OMB clearance.

SUMMARY: Under the provisions of the Paperwork Reduction Act of 1995 (44 U.S.C. Chapter 35), the Regulatory Secretariat Division (MVCB) will be submitting to the Office of Management and Budget (OMB) a request to review and approve an extension of a currently approved information collection requirement concerning Standard Form (SF) 28, Affidavit of Individual Surety. A notice was published in the Federal Register at 79 FR 43050 on July 24, 2014. Two comments were received.

DATES: Submit comments on or before December 15, 2014.

ADDRESSES: Submit comments identified by Information Collection 9000-0001 by any of the following methods:

• Regulations.gov: http://www.regulations.gov. Submit comments via the Federal eRulemaking portal by searching the OMB control number 9000-0001. Select the link “Comment Now” that corresponds with “Information Collection 9000-0001, SF 28, Affidavit of Individual Surety”. Follow the instructions provided on the screen. Please include your name, company name (if any), and “Information Collection 9000-0001 SF 28, Affidavit of Individual Surety” on your attached document.

• Fax: 202-501-4067.

• Mail: General Services Administration, Regulatory Secretariat Division (MVCB), 1800 F Street NW., Washington, DC 20405. ATTN: Ms. Flowers/IC 9000-0001, SF 28, Affidavit of Individual Surety.

Instructions: Please submit comments only and cite Information Collection 9000-0001, in all correspondence related to this collection. All comments received will be posted without change to http://www.regulations.gov, including any personal and/or business confidential information provided.

FOR FURTHER INFORMATION CONTACT: Ms. Cecelia L. Davis, Procurement Analyst, Acquisition Policy Division, GSA, 202-219-0202 or email Cecelia.davis@gsa.gov.

SUPPLEMENTARY INFORMATION:

A. Purpose

The Affidavit of Individual Surety SF 28 is used by all executive agencies, including the Department of Defense, to obtain information from individuals wishing to serve as sureties to Government bonds. To qualify as a surety on a Government bond, the individual must show a net worth not less than the penal amount of the bond on the SF 28. It is an elective decision on the part of the maker to use individual sureties instead of other available sources of surety or sureties for Government bonds. We are not aware if other formats exist for the collection of this information.

The information on SF 28 is used to assist the contracting officer in determining the acceptability of individuals proposed as sureties.

B. Discussion and Analysis

The analysis of the public comment is summarized as follows:

Both commenters support the extension of this information collection. In addition to supporting the extension, both commenters suggested some revisions/enhancements to the current Standard Form 28.

Comments: One commenter stated that SF 28 does not achieve its intended purpose in assisting contracting officers in determining whether individuals proposed as sureties are financially sound with the resources to support the obligations pledged for a Federal construction contract. The commenter states that the SF 28 has not prevented individual sureties from pledging the same assets for multiple bonds and recommends that the SF 28 be enhanced to ensure that the assets pledged to the Federal government can be accessed if needed. The Federal government should require any assets pledge other than real estate be placed in escrow only in a Federal insured financial institution and that a copy of the escrow agreement be filed with the SF 28 that shows the Federal government would have unrestricted access if needed. In addition, SF 28 should include questions relating to the criminal background, debarments and cease and desist orders from the state insurance departments. The SF 28 should also specify documentation to demonstrate the value of the assets, verify that it has been pledged to the United States and is free of tax liens or other encumbrances.

The other commenter acknowledges that changes have been made in the past to strengthen the form but points out that the current SF 28 would benefit from greater specificity on the information required of individual sureties relating to the pledging of assets, especially information relating to assets other than real estate. Also, additional information should be provided on the SF 28 to assist contracting officers in their efforts to select an acceptable individual surety (such as disclosure of Federal tax liens against the individual surety and disclosure of personal insolvency proceedings).

Response: As in the past, these suggestions will be taken into consideration and if deemed warranted a FAR case will be opened to revise the standard form. At that time, the estimated total annual public hour and cost burden will be adjusted if necessary.

C. Annual Reporting Burden

Based on a comprehensive reassessment performed, this information collection resulted in no change in the total burden hours from the previous information collection that was published in the Federal Register at 76 FR 60050 on September 28, 2011. The previous assessment performed resulted in a change to the “Response per Respondent” and “Hours per Response” categories. The 1.43, responses per respondent, was lowered to 1. to adequately reflect this category. A respondent has to respond completely not partially when submitting this form. The “Hours per Response” category was decreased to .3 (18 minutes) from .4 (24 minutes) to reflect the benefits of being able to submit the required information electronically, as respondents no longer have to print and physically mail forms.

Respondents: 500.

Responses per Respondent: 1.

Total Responses: 500.

Hours per Response: 0.3.

Total Burden Hours: 150.

Obtaining Copies Of Proposals: Requesters may obtain a copy of the information collection documents from the General Services Administration, Regulatory Secretariat Division (MVCB), 1800 F Street NW., Washington, DC 20405, telephone 202-501-4755. Please cite OMB Control No. 9000-0001, SF 28, Affidavit of Individual Surety, in all correspondence.

Dated: November 7, 2014.
Edward Loeb,
Acting Director, Federal Acquisition Policy Division, Office of Government-wide Acquisition Policy, Office of Acquisition Policy, Office of Government-wide Policy.

[FR Doc. 2014-26936 Filed 11-13-14; 8:45 am]

BILLING CODE 6820-EP-P